DEPARTMENT OF TRANSPORTATION

Office of the Secretary

[Docket No.: DOT-OST-2016-0206]

Advisory Committee on Transportation Equity Meeting Notice

AGENCY: Office of the Secretary, U.S. Department of Transportation (DOT).

ACTION: Notice of open committee meeting.

SUMMARY: The Department of Transportation is publishing this notice to announce the following Federal advisory committee meeting of the Advisory Committee on Transportation Equity (ACTE). The meeting is open to the public.

DATES: The Committee will meet from 2:30 p.m. to 5 p.m. EST on December 15, 2016.

ADDRESSES: The meeting will be held at 1200 New Jersey Avenue SE., Washington, DC.

FOR FURTHER INFORMATION CONTACT: Barbara McCann, U.S. Department of Transportation, Office of the Secretary, Office of Policy, Room W84-212, 1200 New Jersey Avenue SE., Washington, DC 20590; phone (202) 366-2234; email: Equity@dot.gov.

SUPPLEMENTARY INFORMATION: The committee meeting is being held in accordance with the Federal Advisory Committee Act, 5 U.S.C. App.

Purpose of the Committee: The purpose of the Committee is to provide advice and recommendations to the Secretary of Transportation on comprehensive, interdisciplinary issues related to transportation equity from a variety of stakeholders involved in transportation planning, design, research, policy, and advocacy.

Proposed Agenda: This will be the first meeting of the ACTE. The committee will conduct introductions of members, discuss organizational details and logistics, and discuss equity in transportation planning, design, research, policy and advocacy. Agenda will be as follows:

—Welcome and Mission of ACTE

—Remarks by U.S. Transportation Secretary Anthony Foxx

—Briefing on FACA Rules and Ethics

—Discussion on Transportation Equity

—Public Comments

Public Accessibility to the Meeting: Pursuant to 5 U.S.C. 552b, as amended, and 41 CFR 102-3.140 through 102-3.165, and subject to the availability of space, this meeting is open to the public. Seating is on a first to arrive basis. Because the meeting of the committee will be held in a Federal Government facility, security screening is required. Attendees are requested to register by submitting their name, affiliation, email address and daytime phone number three business days prior to the meeting to Barbara McCann, the committee Designated Federal Officer at the address listed in the FOR FURTHER INFORMATION CONTACT section. A photo ID is required to enter the premises. Please note that parking is limited. DOT Headquarters is fully handicap accessible. Wheelchair access is available in front at the main entrance of the building. For additional information about public access procedures, contact Ms. McCann, the committee's Designated Federal Officer, at the email address or telephone number listed in the FOR FURTHER INFORMATION CONTACT section.

Written Comments or Statements: Pursuant to 41 CFR 102-3.105(j) and 102-3.140 and section 10(a)(3) of the Federal Advisory Committee Act, the public or interested organizations may submit written comments or statements to the committee in response to the stated agenda of the meeting or in regard to the committee's mission in general. Written comments or statements should be submitted to Ms. McCann, the committee Designated Federal Officer, via electronic mail, the preferred mode of submission, at the address listed in the FOR FURTHER INFORMATION CONTACT section. Each page of the comment or statement must include the author's name, title or affiliation, address, email address and daytime phone number. The Designated Federal Official will review all submitted written comments or statements and provide them to members of the committee for their consideration. Written comments or statements being submitted in response to the agenda set forth in this notice must be received by the Designated Federal Official at least three business days prior to the meeting to be considered by the committee. Written comments or statements received after this date may not be provided to the committee until its next meeting.

Verbal Comments or Statements: Pursuant to 41 CFR 102-3.140d, the Committee is not obligated to allow a member of the public to speak or otherwise address the Committee during the meeting. Members of the public are invited to provide verbal comments or statements during the Committee meeting only at the time and in the manner described below. All requests to speak or otherwise address the Committee during the meeting must be submitted to the committee's Designated Federal Official at least three days prior to the meeting, via electronic mail, the preferred mode of submission, at the address listed in the FOR FURTHER INFORMATION CONTACT section. The request should include a brief statement of the subject matter to be addressed by the comment, and should be relevant to the stated agenda of the meeting or in regard to the committee's mission in general. The Designated Federal Official will log each request in the order received. A 30-minute period will be available for verbal public comments. Members of the public who have requested to make a verbal comment will be allotted no more than two minutes, and will be invited to speak in the order in which their requests were received by Designated Federal Official.

Minutes: The minutes of this meeting will be available for public review and copying within 60 days at the following Web site: www.transportation.gov/acte.

Issued in Washington, DC, on November 28, 2016.
Anthony R. Foxx,
U.S. Department of Transportation Secretary.

[FR Doc. 2016-28965 Filed 11-30-16; 8:45 am]

BILLING CODE 4910-9X-P